Proclamation 7726 of October 24, 2003

United Nations Day, 2003

By the President of the United States of America

A Proclamation

The United Nations is a vital international arena for countries to cooperate in pursuit of political, economic, and social freedoms. Founded by 51 Member countries after World War II, the organization has grown through the years to include 191 Member States. On United Nations Day, we celebrate the organization's founding principles of freedom, democracy, and human rights, and we recognize the contributions of the United Nations to improving lives around the world.

As an original signatory of the United Nations Charter, the United States continues to advance the United Nations' founding principles. We are working with the United Nations to reduce conflicts around the world, fight terrorism, abolish trafficking in persons, and support those in need, including the people of Afghanistan and Iraq as they continue to build free and stable countries. As we commemorate the 58th anniversary of the United Nations, we honor the victims of the recent bombing of the United Nations headquarters in Baghdad who worked to advance peace and freedom.

NOW, THEREFORE, I, GEORGE W. BUSH, President of the United States of America, by virtue of the authority vested in me by the Constitution and laws of the United States, do hereby proclaim October 24, 2003, as United Nations Day. I urge the Governors of the 50 States, the Governor of the Commonwealth of Puerto Rico, and the officials of other areas under the flag of the United States to honor the observance of United Nations Day with appropriate ceremonies and activities.

IN WITNESS WHEREOF, I have hereunto set my hand this twenty-fourth day of October, in the year of our Lord two thousand three, and of the Independence of the United States of America the two hundred and twenty-eighth.

B

[FR Doc. 03-27339

Filed 10-27-03; 11:24 am]

Billing code 3195-01-P